DEPARTMENT OF DEFENSE

Office of the Secretary

Meeting of the Defense Department Advisory Committee on Women in the Services (DACOWITS)

AGENCY: Department of Defense.

ACTION: Notice.

SUMMARY: Pursuant to section 10(a), Public Law 92-463, as amended, notice is hereby given of a forthcoming meeting of the Defense Department Advisory Committee on Women in the Services (DACOWITS). The purpose of the Committee meeting is to discuss the 2004 DACOWITS Report. The meeting is open to the public, subject to the availability of space.

Interested persons may submit a written statement for consideration by the Committee and make an oral presentation of such. Persons desiring to make an oral presentation or submit a written statement to the Committee must notify the point of contact listed below no later than 5 p.m., February 1, 2005. Oral presentations by members of the public will be permitted only on Thursday, February 3, 2005, from 4:30 p.m. to 4:45 p.m. before the full Committee. Presentations will be limited to two minutes. Number of oral presentations to be made will depend on the number of requests received from members of the public. Each person desiring to make an oral presentation must provide the point of contact listed below with one (1) copy of the presentation by 5 p.m., February 1, 2005, and bring 35 copies of any material that is intended for distribution at the meeting. Persons submitting a written statement must submit 35 copies of the statement to the DACOWITS staff by 5 p.m. on February 1, 2005.

DATES: February 2, 2005, 8:30 a.m.-5 p.m. February 3, 2005, 8:30 a.m.-5 p.m. February 4, 2005, 8:30 a.m.-5 p.m.

Location: Embassy Suites Hotel, Crystal City—National Airport, 1300 Jefferson Davis Highway, Arlington, VA 22202.

FOR FURTHER INFORMATION CONTACT: MSgt Gerald T. Posey, USAF, DACOWITS, 4000 Defense Pentagon, Room 2C548A, Washington, DC 20301-4000. Telephone (703) 697-2122. Fax (703) 614-6233.

SUPPLEMENTARY INFORMATION: Meeting agenda.

Wednesday, February 2, 2005, 8:30 p.m.-5 p.m.

Welcome & Administrative Remarks

Review of 2004 Report

Briefings on Topical Information for 2005.

Thursday, February 3, 2005, 8:30 a.m.-5 p.m.

Development of Mission and Topics Statements for 2005 Report

2005 Report Outline Development,

4:30 p.m.-4:45 p.m. (Public Forum)

Friday, February 4, 2005, 8:30 a.m.-5 p.m.

Committee Administrative Training, Security, Ethics

Continued Outline and Report Development for 2005

Note: Exact order may vary.
Dated: January 13, 2005.
Jeannette Owings-Ballard,
OSD Federal Register Liaison Officer, Department of Defense.

[FR Doc. 05-1854 Filed 1-27-05; 2:38 pm]

BILLING CODE 5001-06-P